DEPARTMENT OF COMMERCE

Bureau of Industry and Security

15 CFR Part 744

[Docket No. 161221999-6999-01]

RIN 0694—AH23

Addition of Certain Persons and Revisions to Entries on the Entity List; and Removal of a Person From the Entity List

AGENCY: Bureau of Industry and Security, Commerce.

ACTION: Final rule.

SUMMARY: This rule amends the Export Administration Regulations (EAR) by adding five persons to the Entity List. The five persons who are added to the Entity List have been determined by the U.S. Government to be acting contrary to the national security or foreign policy interests of the United States. These five persons will be listed on the Entity List under the destination of Turkey. This final rule also removes one entity from the Entity List under the destination of India as the result of a request for removal received by BIS and a review of information provided in the removal request in accordance with the procedure for requesting removal or modification of an Entity List entity. Finally, this rule is also revising five existing entries in the Entity List, under the destinations of Armenia, Greece, Pakistan, Russia and the United Kingdom (U.K.). Four of these entries are modified to reflect the removal from the Entity List of the entity located in India. The license requirement for the entry under the destination of Russia is being revised to conform with a general license issued by the Department of the Treasury's Office of Foreign Assets Control on December 20, 2016.

DATES: This rule is effective January 10, 2017.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to Part 744) identifies entities and other persons reasonably believed to be involved, or to pose a significant risk of being or becoming involved, in activities contrary to the national security or foreign policy interests of the United States. The EAR imposes additional license requirements on, and limits the availability of most license exceptions for, exports, reexports, and transfers (in-country) to those listed. The “license review policy” for each listed entity or other person is identified in the License Review Policy column on the Entity List and the impact on the availability of license exceptions is described in the Federal Register notice adding entities or other persons to the Entity List. BIS places entities and other persons on the Entity List pursuant to sections of part 744 (Control Policy: End-User and End-Use Based) and part 746 (Embargoes and Other Special Controls) of the EAR.

The ERC, composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add five persons to the Entity List. These five persons are being added on the basis of § 744.11 (License requirements that apply to entities acting contrary to the national security or foreign policy interests of the United States) of the EAR. The five entries added to the Entity List are located in Turkey.

The ERC reviewed § 744.11(b) (Criteria for revising the Entity List) in making the determination to add these five persons to the Entity List. Under that paragraph, persons for whom there is reasonable cause to believe, based on specific and articulable facts, that they have been involved, are involved, or pose a significant risk of being or becoming involved in, activities that are contrary to the national security or foreign policy interests of the United States and those acting on behalf of such persons may be added to the Entity List. Paragraphs (b)(1) through (b)(5) of § 744.11 include an illustrative list of activities that could be contrary to the national security or foreign policy interests of the United States.

Specifically, two entities, AR Kompozit Kimya and Murat Taskiran, are being added to the Entity List as these entities exported high grade U.S.-origin carbon fiber to Iran in violation of U.S. law (i.e., 50 U.S.C. 1701 thru 1706 and 30 CFR 560.203 & 560.204). The additional three entities located in Turkey, Fulya Kalfatoglu Oguzturk, Ramor Group and Resit Tavan, are being added to the Entity List on the basis of their involvement in the procurement and/or retransfer of U.S.-origin items to Iran for use by the Iranian military.

Pursuant to § 744.11(b) of the EAR, the ERC determined that the conduct of these five entities raises sufficient concern that prior review of exports, reexports or transfers (in-country) of all items subject to the EAR involving these persons, and the possible imposition of license conditions or license denials on shipments to the persons, will enhance BIS's ability to prevent violations of the EAR.

For the five persons added to the Entity List, BIS imposes a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule. The acronym “a.k.a.” (also known as) is used in entries on the Entity List to help exporters, reexporters and transferors to better identify listed persons on the Entity List.

This final rule adds the following five persons to the Entity List:

Turkey

(1) AR Kompozit Kimya, a.k.a., the following two aliases:

—AR Composites Company Ltd; and

—AR Kompozit Kimya Muhendislik Taah Dis Tic Ltd.

Kuyumcukent 2, Plaza Kat 5, No 9, Yenibosna, Istanbul, Turkey;

(2) Fulya Kalafatoglu Oguzturk, a.k.a., the following one alias:

—Macide Fulya Kalafatoglu.

Barajyolu Cd Yenisehir Mh Sinpas Koruk Konutlari No 40 Sogut Blok D1 Istanbul, Turkey;

(3) Murat Taskiran,

Kuyumcukent 2, Plaza Kat 5, No 9, Yenibosna, Istanbul, Turkey;

(4) Ramor Group, a.k.a., the following four aliases:

—Ramor Construction Food and Furniture Incorporation;

—Ramor Ins;

—Ramor Company; and

—Ramor Ltd. Co.

Unit 42, Gardenya Plaza 7/1, 12th Floor, No: 77, Atasehir, Istanbul, Turkey 34758; and 1st.End.ve.Tic.Serbest Bol.Sub. Kopuzlar Cad.No.8 Solingen Zemin Kat Tuzla/Istanbul, Turkey; and

(5) Resit Tavan,

Turgotozl CD Agaoglu MySkyTowers, A Blok D 12, Istanbul, Turkey 34758.

Removal From the Entity List

This rule implements a decision of the ERC to remove the following entry from the Entity List on the basis of on a removal request received by the BIS: Veteran Avia LLC, located in India. The ERC decided to remove Veteran Avia LLC (India) based on information received by BIS regarding activities at the listed location in India and further review conducted by the ERC.

This final rule implements the decision to remove the following entity located in India from the Entity List:

India

(1) Veteran Avia LLC, a.k.a., the following one alias:

—Veteran Airline.

A-107, Lajpat Nagar—I, New Delhi 110024, India and Room No. 34 Import Cargo, IGI Airport Terminal—II, New Delhi 110037, India; and 25B, Camac Street 3E, Camac Court Kolkatta, 700016, India; and Ali's Chamber #202, 2nd Floor Sahar Cargo Complex Andheri East Mumbai, 400099, India. (See also addresses under Armenia, Greece, Pakistan, and U.K).

The removal of the person referenced above, which was approved by the ERC, eliminates the existing license requirements in Supplement No. 4 to part 744 for exports, reexports and transfers (in-country) to this entity. However, the removal of this person from the Entity List does not relieve persons of other obligations under part 744 of the EAR or under other parts of the EAR. Neither the removal of an entity from the Entity List nor the removal of Entity List-based license requirements relieves persons of their obligations under General Prohibition 5 in § 736.2(b)(5) of the EAR which provides that, “you may not, without a license, knowingly export or reexport any item subject to the EAR to an end-user or end-use that is prohibited by part 744 of the EAR.” Additionally, this removal does not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Revisions to Entries on the Entity List

Modification to License Requirements for an Entry on the Entity List

On December 20, 2016, the Department of the Treasury's Office of Foreign Assets Control (OFAC) issued General License No. 11, Authorizing Certain Transactions With FAU Glavgosekspertiza Rossii, an entity in the Russian Federation. This general license authorizes transactions otherwise prohibited by Executive Order 13685 (E.O.) of December 19, 2014 that are ordinarily incident and necessary to requesting, contracting for, paying for, receiving, or utilizing a project design review or permit from FAU Glavgosekspertiza Rossii's office(s) in the Russian Federation, provided that the underlying project is located wholly within the Russian Federation, and none of the transactions otherwise violate Executive Order (E.O.) 13685 of December 19, 2014. Any questions regarding to the scope of this general license should be directed to OFAC.

In light of OFAC's General License No. 11, BIS makes a conforming change by modifying the listing for FAU `Glavgosekspertiza Rossii' on the Entity List under the destination of Russia (the term used in the EAR for the Russian Federation). This final rule modifies the license requirement column for this entity to specify that the Entity List's license requirements do not apply to items subject to the EAR that are related to transactions authorized by OFAC pursuant to new General License No. 11 (transactions that are ordinarily incident and necessary to requesting, contracting for, paying for, receiving or utilizing a project design review or permit from this listed entity's office(s) in Russia, so long as the underlying project occurs wholly within Russia and no transactions otherwise violate E.O. 13685). The listing for Ukraine on the Commerce Country Chart, Supp. No. 1 to part 738 of the EAR, includes a footnote that defines the “Crimea region of Ukraine” consistent with section 8(d) of E.O. 13685. FAU `Glavgosekspertiza Rossii' continues to be listed under both Russia and the Crimea region of Ukraine on the Entity List. This final rule amends only the entry under Russia; it does not make any change to the entry listed under the Crimea region of Ukraine. The license requirement for FAU `Glavgosekspertiza Rossii' listed under the destination of the Crimea region of Ukraine continues to apply to all items subject to the EAR.

Conforming Changes for an Approved Removal From the Entity List

This final rule revises four entries in the Entity List for the entity Veteran Avia LLC, a.k.a., Veteran Airline, under the destinations of Armenia, Greece, Pakistan and the United Kingdom. As described above, the ERC approved the removal of Veteran Avia LLC (India). Therefore, this final rule makes conforming changes to the remaining four entries for the entity to remove the cross references to India. This final rule does not make any other changes to these four entries, except for revising the Federal Register citation column to reflect this conforming change being made to these four entities. The license requirement for the four entries remains all items subject to the EAR, and the license application review policy remains a presumption of denial.

This final rule makes the following revisions to five entries on the Entity List:

Armenia

(1) Veteran Avia LLC, a.k.a., the following one alias:

—Veteran Airline.

64, Baghramyam Avenue, Apt 16, Yerevan 0033, Armenia; and 1 Eervand Kochari Street Room 1, 375070 Yerevan, Armenia (See also addresses under Greece, Pakistan, and U.K.).

Greece

(1) Veteran Avia LLC, a.k.a., the following one alias:

—Veteran Airline.

24, A. Koumbi Street, Markopoulo 190 03, Attika, Greece (See also addresses under Armenia, Pakistan, and U.K.).

Pakistan

(1) Veteran Avia LLC, a.k.a., the following one alias:

—Veteran Airline.

Room No. 1, ALC Building, PIA Cargo Complex Jiap, Karachi, Pakistan (See also addresses under Armenia, Greece, and U.K.).

Russia

(1) FAU `Glavgosekspertiza Rossii', a.k.a., the following three aliases:

—Federal Autonomous Institution `Main Directorate of State Examination';

—General Board of State Expert Review; and

—Glavgosekspertiza.

Furkasovskiy Lane, building 6, Moscow 101000, Russia (See alternate address under Crimea region of Ukraine).

Note: As described above, the changes this final rule makes to this Russian entity are limited to the License requirement column for this entry.

United Kingdom

(1) Veteran Avia LLC, a.k.a., the following one alias:

—Veteran Airline.

1 Beckett Place, South Hamptonshire, London, U.K. (See also addresses under Armenia, Greece, and Pakistan).

Savings Clause

Shipments of items removed from eligibility for a License Exception or export or reexport without a license (NLR) as a result of this regulatory action that were en route aboard a carrier to a port of export or reexport, on January 10, 2017, pursuant to actual orders for export or reexport to a foreign destination, may proceed to that destination under the previous eligibility for a License Exception or export or reexport without a license (NLR).

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 4, 2016, 81 FR 52587 (August 8, 2016), has continued the Export Administration Regulations in effect under the International Emergency Economic Powers Act. BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the five persons added to the Entity List in this final rule, the provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in-country) to the persons being added to the Entity List. If this rule were delayed to allow for notice and comment and a delay in effective date, the entities being added to the Entity List by this action would continue to be able to receive items without a license and to conduct activities contrary to the national security or foreign policy interests of the United States. In addition, publishing a proposed rule would give these parties notice of the U.S. Government's intention to place them on the Entity List and would create an incentive for these persons to either accelerate receiving items subject to the EAR to conduct activities that are contrary to the national security or foreign policy interests of the United States, and/or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

5. For the one entry removed from the Entity List in this final rule, pursuant to the Administrative Procedure Act (APA), 5 U.S.C. 553(b)(B), BIS finds good cause to waive requirements that this rule be subject to notice and the opportunity for public comment because it would be contrary to the public interest.

In determining whether to grant a request for removal from the Entity List, a committee of U.S. Government agencies (the End-User Review Committee (ERC)) evaluates information about and commitments made by listed persons requesting removal from the Entity List, the nature and terms of which are set forth in 15 CFR part 744, Supplement No. 5, as noted in 15 CFR 744.16(b). The information, commitments, and criteria for this extensive review were all established through the notice of proposed rulemaking and public comment process (72 FR 31005 (June 5, 2007) (proposed rule), and 73 FR 49311 (August 21, 2008) (final rule)). This one removal has been made within the established regulatory framework of the Entity List. If the rule were to be delayed to allow for public comment, U.S. exporters may face unnecessary economic losses as they turn away potential sales to the entity removed by this rule because the customer remained a listed person on the Entity List even after the ERC approved the removal pursuant to the rule published at 73 FR 49311 on August 21, 2008. By publishing without prior notice and comment, BIS allows the applicant to receive U.S. exports immediately since the applicant already has received approval by the ERC pursuant to 15 CFR part 744, Supplement No. 5, as noted in 15 CFR 744.16(b).

Removals from the Entity List granted by the ERC involve interagency deliberation and result from review of public and non-public sources, including sensitive law enforcement information and classified information, and the measurement of such information against the Entity List removal criteria. This information is extensively reviewed according to the criteria for evaluating removal requests from the Entity List, as set out in 15 CFR part 744, Supplement No. 5 and 15 CFR 744.16(b). For reasons of national security, BIS is not at liberty to provide to the public detailed information on which the ERC relied to make the decisions to remove this entity. In addition, the information included in the removal request is information exchanged between the applicant and the ERC, which by law (section 12(c) of the Export Administration Act of 1979), BIS is restricted from sharing with the public. Moreover, removal requests from the Entity List contain confidential business information, which is necessary for the extensive review conducted by the U.S. Government in assessing such removal requests.

Section 553(d) of the APA generally provides that rules may not take effect earlier than thirty (30) days after they are published in the Federal Register. BIS finds good cause to waive the 30-day delay in effectiveness under 5 U.S.C. 553(d)(1) because this rule is a substantive rule which relieves a restriction. This rule's removal of one person from the Entity List removes a requirement (the Entity-List-based license requirement and limitation on use of license exceptions) on this person being removed from the Entity List. The rule does not impose a requirement on any other person for the removal from the Entity List.

In addition, the Department finds that there is good cause under 5 U.S.C. 553(b)(B) to waive the provisions of the Administrative Procedure Act (APA) requiring prior notice and the opportunity for public comment for the five conforming changes included in this rule because they are either unnecessary or contrary to the public interest. These five conforming changes are limited to ensure consistency with a removal included in this rulemaking or consistency with OFAC's General License No. 11, and thus prior notice and the opportunity for public comment are unnecessary. The conforming change to the listing for FAU `Glavgosekspertiza Rossii' is intended to ensure consistent treatment of this entity under both the EAR and OFAC's sanctions regime. The other four conforming changes are limited to reflecting the removal of Veteran Avia LLC (India). These four changes are needed to correct the cross-referencing parenthetical phrase included in each of these four entries.

No other law requires that a notice of proposed rulemaking and an opportunity for public comment be given for this final rule. Because a notice of proposed rulemaking and an opportunity for public comment are not required under the APA or by any other law, the analytical requirements of the Regulatory Flexibility Act (5 U.S.C. 601 et seq.) are not applicable. As a result, no final regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of November 12, 2015, 80 FR 70667 (November 13, 2015); Notice of January 20, 2016, 81 FR 3937 (January 22, 2016); Notice of August 4, 2016, 81 FR 52587 (August 8, 2016); Notice of September 15, 2016, 81 FR 64343 (September 19, 2016); Notice of November 8, 2016, 81 FR 79379 (November 10, 2016).

2. Supplement No. 4 to part 744 is amended:

a. By revising, under Armenia, one Armenian entity “Veteran Avia LLC, a.k.a., the following one alias:—Veteran Airline. 64, Baghramyam Avenue, Apt 16, Yerevan 0033, Armenia; and 1 Eervand Kochari Street Room 1, 375070 Yerevan, Armenia (See also addresses under Greece, India, Pakistan, and U.K.)” ;

b. By revising, under Greece, one Greek entity “Veteran Avia LLC, a.k.a., the following one alias:—Veteran Airline. 24, A. Koumbi Street, Markopoulo 190 03, Attika, Greece (See also addresses under Armenia, India, Pakistan, and U.K.)” ;

c. By removing, under India, one Indian entity, “Veteran Avia LLC, a.k.a., the following one alias:—Veteran Airline. A-107, Lajpat Nagar—I, New Delhi 110024, India; and Room No. 34 Import Cargo, IGI Airport Terminal—II, New Delhi 110037, India; and 25B, Camac Street 3E, Camac Court Kolkatta, 700016, India; and Ali's Chamber #202, 2nd Floor Sahar Cargo Complex Andheri East Mumbai, 400099, India (See also addresses under Armenia, Greece, Pakistan, and U.K.).” ;

d. By revising, under Pakistan, one Pakistani entity, “Veteran Avia LLC, a.k.a., the following one alias:—Veteran Airline. Room No. 1, ALC Building, PIA Cargo Complex Jiap, Karachi, Pakistan (See also addresses under Armenia, Greece, India, U.A.E., and U.K.)”;

e. By revising, under Russia, one Russian entity “FAU `Glavgosekspertiza Rossii', a.k.a., the following three aliases:—Federal Autonomous Institution `Main Directorate of State Examination';—General Board of State Expert Review; and—Glavgosekspertiza. Furkasovskiy Lane, building 6, Moscow 101000, Russia (See alternate address under Crimea region of Ukraine).”;

f. By adding, under Turkey, in alphabetical order, five Turkish entities; and

g. By revising, under the United Kingdom, one British entity “Veteran Avia LLC, a.k.a., the following one alias:—Veteran Airline. 1 Beckett Place, South Hamptonshire, London, U.K. (See also addresses under Armenia, Greece, India, and Pakistan).”

The additions and revisions read as follows:

Supplement No. 4 to Part 744—Entity List

* * * * *

Country | Entity | License requirement | License review policy | Federal Register citation
* * * * * * *
ARMENIA | * * * * * *
| Veteran Avia LLC a.k.a., the following alias: —Veteran Airline. 64, Baghramyam Avenue, Apt 16, Yerevan 0033, Armenia; and 1 Eervand Kochari Street Room 1, 375070 Yerevan, Armenia (See also addresses under Greece, Pakistan, and U.K.). | For all items subject to the EAR. (See § 744.11 of the EAR). | Presumption of denial | 79 FR 44683, 8/1/14. 81 FR 8829, 2/23/16. 82 FR [INSERT FR PAGE NUMBER] 1/10/17.
* * * * * * *
GREECE | * * * * * *
| Veteran Avia LLC a.k.a., the following alias: —Veteran Airline. 24, A. Koumbi Street, Markopoulo 190 03, Attika, Greece (See also addresses under Armenia, Pakistan, and U.K.). | For all items subject to the EAR. (See § 744.11 of the EAR). | Presumption of denial | 79 FR 56003, 9/18/14. 81 FR 8829, 2/23/16. 82 FR [INSERT FR PAGE NUMBER] 1/10/17.
* * * * * * *
PAKISTAN | * * * * * *
| Veteran Avia LLC, a.k.a., the following one alias: —Veteran Airline. Room No. 1, ALC Building, PIA Cargo Complex Jiap, Karachi, Pakistan (See also addresses under Armenia, Greece, and U.K.). | For all items subject to the EAR. (See § 744.11 of the EAR). | Presumption of denial | 79 FR 56003, 9/18/14. 81 FR 8829, 2/23/16. 82 FR [INSERT FR PAGE NUMBER] 1/10/17.
* * * * * * *
RUSSIA | * * * * * *
| FAU `Glavgosekspertiza Rossii', a.k.a., the following three aliases: —Federal Autonomous Institution ‘Main Directorate of State Examination’; —General Board of State Expert Review; and —Glavgosekspertiza. Furkasovskiy Lane, building 6, Moscow 101000, Russia (See alternate address under Crimea region of Ukraine). | For all items subject to the EAR (see § 744.11 of the EAR), apart from items that are related to transactions that are authorized by the Department of the Treasury's Office of Foreign Assets Control pursuant to General License No. 11 of December 20, 2016. Russia does not include the “Crimea region of Ukraine,” as that term is defined in section 8(d) of E.O. 13685. | Presumption of denial | 81 FR 61601, 9/7/16. 82 FR [INSERT FR PAGE NUMBER] 1/10/17.
* * * * * * *
TURKEY | * * * * * *
| AR Kompozit Kimya, a.k.a., the following two aliases: —AR Composites Company Ltd; and —AR Kompozit Kimya Muhendislik Taah Dis Tic Ltd. | For all items subject to the EAR. (See § 744.11 of the EAR). | Presumption of denial | 82 FR [INSERT FR PAGE NUMBER] 1/10/17.
| Kuyumcukent 2, Plaza Kat 5, No 9, Yenibosna, Istanbul, Turkey.
| * * * * * *
| Fulya Kalafatoglu Oguzturk, a.k.a., the following one alias: —Macide Fulya Kalafatoglu. Barajyolu Cd Yenisehir Mh Sinpas Koruk Konutlari No 40 Sogut Blok D1 Istanbul, Turkey. | For all items subject to the EAR. (See § 744.11 of the EAR). | Presumption of denial | 82 FR [INSERT FR PAGE NUMBER] 1/10/17.
| * * * * * *
| Murat Taskiran, Kuyumcukent 2, Plaza Kat 5, No 9, Yenibosna, Istanbul, Turkey. | For all items subject to the EAR. (See § 744.11 of the EAR). | Presumption of denial | 82 FR [INSERT FR PAGE NUMBER] 1/10/17.
| * * * * * *
| Ramor Group, a.k.a., the following four aliases: —Ramor Construction Food and Furniture Incorporation; —Ramor Ins; —Ramor Company; and —Ramor Ltd. Co. | For all items subject to the EAR. (See § 744.11 of the EAR). | Presumption of denial | 82 FR [INSERT FR PAGE NUMBER] 1/10/17.
| Unit 42, Gardenya Plaza 7/1, 12th Floor, No: 77, Atasehir, Istanbul, Turkey 34758; and 1st.End. ve.Tic.Serbest Bol.Sub. Kopuzlar Cad.No.8 Solingen Zemin Kat Tuzla/Istanbul, Turkey.
| Resit Tavan, Turgotozl CD Agaoglu MySkyTowers, A Blok D 12, Istanbul, Turkey 34758. | For all items subject to the EAR. (See § 744.11 of the EAR). | Presumption of denial | 82 FR [INSERT FR PAGE NUMBER] 1/10/17.
* * * * * * *
UNITED KINGDOM | * * * * * *
| Veteran Avia LLC a.k.a., the following alias: —Veteran Airline. 1 Beckett Place, South Hamptonshire, London, U.K. (See also addresses under Armenia, Greece, and Pakistan). | For all items subject to the EAR. (See § 744.11 of the EAR). | Presumption of denial | 79 FR 56003, 9/18/14. 81 FR 8829, 2/23/16. 82 FR [INSERT FR PAGE NUMBER] 1/10/17.
| * * * * * *

Dated: December 28, 2016.
Alexander K. Lopes, Jr.,
Acting Assistant Secretary for Export Administration.

[FR Doc. 2016-31833 Filed 1-9-17; 8:45 am]

BILLING CODE 3510-33-P